DEPARTMENT OF LABOR

Employment and Training Administration

[TA-W-54,201]

Avent, Inc., Division of Kimberly-Clark Corporation, Haltom City, TX; Notice of Termination of Investigation

Pursuant to Section 221 of the Trade Act of 1974, as amended, an investigation was initiated on February 9, 2004, in response to a worker petition filed by a company official on behalf of workers at Avent, Inc., Division of Kimberly-Clark Corporation, Haltom City, Texas.

The petitioner has requested that the petition be withdrawn. Consequently, the investigation has been terminated.

Signed in Washington, DC this 19th day of March 2004.
Richard Church,
Certifying Officer, Division of Trade Adjustment Assistance.

[FR Doc. 04-7581 Filed 4-2-04; 8:45 am]

BILLING CODE 4510-30-P